DEPARTMENT OF JUSTICE

Notice of Lodging of Consent Decrees Pursuant to the Comprehensive Environmental Response, Compensation and Liability Act

In accordance with Department of Justice policy codified at 28 CFR 50.7 and Section 122 of the Comprehensive Environmental Response, Compensation and Liability Act of 1980, as amended (“CERCLA”), 42 U.S.C. 9622, 42 U.S.C. 9622, notice is hereby given that on November 14, 2001, two proposed consent decrees in United States v. American Allied Additives, Inc., et al., No. 00-01014, were lodged with the United States District Court for the Northern District of Ohio. The proposed consent decrees would settle the United States' claims against defendants Richard Henry and Rauh Rubber, Inc. under CERCLA §§ 106 and 107, 42 U.S.C. 9606 and 9607, in connection with the American Allied Additives Superfund Site (“Site”) in Cleveland, Ohio. The proposed consent decree with Mr. Henry would also resolve his counterclaim against the United States for attorney fees and other expenses pursuant to 5 U.S.C. 504.

The U.S. Environmental Protection Agency (“EPA”) incurred unreimbursed costs of approximately $148,000 in responding to the release or threatened release of hazardous substances at the Site. Mr. Henry and Rauh Rubber, Inc. are liable for response costs at the Site as generators of waste disposed there and are subject to civil penalties for noncompliance with a Unilateral Administrative Order issued by EPA for the performance of an emergency removal at the site.

Under the proposed consent decrees, Mr. Henry agrees to pay a total of $2,500 ($500 for the claim under CERCLA Section 106, and $2,000 for the claim under CERCLA Section 107), and Rauh Rubber, Inc. agrees to pay a total of $10,000 ($3,000 for the claim under CERCLA Section 106, and $7,000 for the claim under CERCLA Section 107). Payment is due within thirty (30) days of entry of the respective consent decree. Mr. Henry also agrees to dismiss with prejudice his counterclaim against the United States. Further, Mr. Henry and Rauh Rubber, Inc. will receive a covenant not to sue and contribution protection for Site response costs, as well as a covenant not to sue for civil penalties for the violations alleged in the complaint.

For a period of thirty (30) days from the date of this publication, the Department of Justice will receive comments related to the proposed consent decrees. Comments may be submitted on one or both consent decrees. Comments should be addressed to the Acting Assistant Attorney General, Environment and Natural Resources Division, U.S. Department of Justice, 950 Pennsylvania Avenue, NW., Washington, DC 20530, and should refer to United States v. American Allied Additives, Inc., et al., Civil Action No. 00-01014; D.J. Ref. No. 90-11-2-1318.

The consent decrees may be examined at the Office of the United States Attorney, 1800 Bank One Center, 600 Superior Avenue, Cleveland, Ohio 44114, and at the U.S. Environmental Protection Agency, Region V, 77 West Jackson Boulevard, Chicago, Illinois 60604. Copies of the consent decrees may also be obtained by mail from the Consent Decree Library, P.O. Box 7611, U.S. Department of Justice, Washington, DC 20044. In requesting a copy, please enclose a check in the amount of $5.00 for one consent decree (20 pages at 25 cents per page reproduction cost), or $10.00 for both consent decrees (40 pages at 25 cents per page reproduction cost).

William Brighton,
Assistant Section Chief, Environmental Enforcement Section, Environment and Natural Resources Division.

[FR Doc. 01-30155 Filed 12-4-01; 8:45 am]

BILLING CODE 4410-15-M